DEPARTMENT OF AGRICULTURE

Animal and Plant Health Inspection Service

[Docket No. APHIS-2015-0014]

Notice of Request for Revision to and Extension of Approval of an Information Collection; Hawaiian and Territorial Fruits and Vegetables Regulations

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for the interstate movement of fruits and vegetables from Hawaii and the territories.

DATES: We will consider all comments that we receive on or before May 26, 2015.

ADDRESSES: You may submit comments by either of the following methods:

• Federal eRulemaking Portal: Go to http://www.regulations.gov/#!docketDetail;D=APHIS-2015-0014.

• Postal Mail/Commercial Delivery: Send your comment to Docket No. APHIS-2015-0014, Regulatory Analysis and Development, PPD, APHIS, Station 3A-03.8, 4700 River Road Unit 118, Riverdale, MD 20737-1238.

Supporting documents and any comments we receive on this docket may be viewed at http://www.regulations.gov/#!docketDetail;D=APHIS-2015-0014 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the interstate movement of fruits and vegetables from Hawaii and the territories, contact Mr. David Lamb, Senior Regulatory Policy Specialist, RPM, PHP, PPQ, APHIS, 4700 River Road Unit 133, Riverdale, MD 20737; (301) 851-2159. For copies of more detailed information on the information collection, contact Ms. Kimberly Hardy, APHIS' Information Collection Coordinator, at (301) 851-2727.

SUPPLEMENTARY INFORMATION:

Title: Hawaiian and Territorial Fruits and Vegetables Regulations.

OMB Control Number: 0579-0346.

Type of Request: Revision to and extension of approval of an information collection.

Abstract: The Plant Protection Act (PPA, 7 U.S.C. 7701 et seq.) authorizes the Secretary of Agriculture to restrict the importation, entry, or interstate movement of plants, plant products, and other articles to prevent the introduction of plant pests into the United States or their dissemination within the United States. This authority has been delegated to the Animal and Plant Health Inspection Service (APHIS), which administers regulations to implement the PPA.

Under the regulations in “Subpart—Regulated Articles From Hawaii and the Territories” (7 CFR 318.13-1 through 318.13-26), APHIS prohibits or restricts the interstate movement of fruits and vegetables into the continental United States from Hawaii, Puerto Rico, the U.S. Virgin Islands, Guam, and the Commonwealth of the Northern Mariana Islands to prevent plant pests and noxious weeds from being introduced into and spread within the continental United States.

The regulations contain requirements for a performance-based process for approving the interstate movement of commodities that, based on the findings of a pest risk analysis, can be safely imported subject to one or more designated phytosanitary measures and for acknowledging pest-free areas. These requirements involve information collection activities, including limited permits, inspections to issue limited permits, inspections of production areas, transit permits, compliance agreements, inspection and certification, labeling for fruits and vegetables produced in pest free areas, written requests for facility approvals, trapping and surveillance, and recordkeeping. In addition, the activities of packaging, marking, identification, and certification of sweet potatoes from Hawaii are also included.

This notice includes a description of the information collection requirements currently approved by the Office of Management and Budget (OMB) for OMB control numbers 0579-0198 and 0579-0281. Therefore, we will consolidate them into one collection (0579-0346). In addition, we have also added recordkeeping to this collection. As a result of consolidating 0579-0198 and 0579-0281 under 0579-0346, and upon approval of this collection by OMB, APHIS will retire numbers 0579-0198 and 0579-0281.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of Burden: The public reporting burden for this collection of information is estimated to average 0.47 hours per response.

Respondents: Wholesalers and producers of fruits and vegetables; growers, shippers, and exporters in Hawaii, U.S. Territories, and State plant regulatory officials; and irradiation facility personnel.

Estimated Annual Number of Respondents: 302.

Estimated Annual Number of Responses per Respondent: 81.5.

Estimated Annual Number of Responses: 24,626.

Estimated Total Annual Burden on Respondents: 11,749 hours. (Due to averaging, the total annual burden hours may not equal the product of the annual number of responses multiplied by the reporting burden per response.)

All responses to this notice will be summarized and included in the request for OMB approval. All comments will also become a matter of public record.

Done in Washington, DC, this 18th day of March 2015.
Kevin Shea,
Administrator, Animal and Plant Health Inspection Service.

[FR Doc. 2015-06725 Filed 3-23-15; 8:45 am]

BILLING CODE 3410-34-P